SMALL BUSINESS ADMINISTRATION

[Declaration of Disaster #3337]

State of Iowa; Amendment #2

In accordance with a notice received from the Federal Emergency Management Agency, dated May 21, 2001, the above-numbered Declaration is hereby amended to include Henry and Sac Counties in the State of Iowa as disaster areas caused by flooding and severe storms beginning on April 8, 2001 and continuing.

In addition, applications for economic injury loans from small businesses located in Cherokee, Crawford and Ida Counties in the State of Iowa may be filed until the specified date at the previously designated location. Any counties contiguous to the above named primary counties and not listed here have been previously declared.

All other information remains the same, i.e., the deadline for filing applications for physical damage is July 1, 2001 and for economic injury the deadline is February 1, 2002.

(Catalog of Federal Domestic Assistance Program Nos. 59002 and 59008)

Dated: May 23, 2001.
Herbert L. Mitchell,
Associate Administrator for Disaster Assistance.

[FR Doc. 01-13561 Filed 5-29-01; 8:45 am]

BILLING CODE 8025-01-P